GOVERNMENT ACCOUNTABILITY OFFICE

Request for Medicare Payment Advisory Commission Nominations

AGENCY: Government Accountability Office (GAO).

ACTION: Request for letters of nomination and resumes.

SUMMARY: The Balanced Budget Act of 1997 established the Medicare Payment Advisory Commission (MedPAC) and gave the Comptroller General responsibility for appointing its members. For appointments to MedPAC that will be effective May 1, 2016, I am announcing the following: Letters of nomination and resumes will be accepted through March 9, 2016 to ensure adequate opportunity for review and consideration of nominees prior to appointment of new members. Acknowledgement of submissions will be provided within a week of submission. Please contact Mary Giffin at (202) 512-3710 if you do not receive an acknowledgment.

ADDRESSES: Email: MedPACappointments@qao.qov.

Mail: U.S. GAO, Attn: MedPAC Appointments, 441 G Street NW., Washington, DC 20548.

FOR FURTHER INFORMATION CONTACT: GAO: Office of Public Affairs, (202) 512-4800.

42 U.S.C. 1395b-6

Gene L. Dodaro,
Comptroller General of the United States.

[FR Doc. 2016-01264 Filed 1-27-16; 8:45 am]

BILLING CODE 1610-02-M